SOCIAL SECURITY ADMINISTRATION

[Docket No. SSA-2018-0039]

Privacy Act of 1974; System of Records

AGENCY: Office of Retirement and Disability Policy, Office of Income Security Programs, Social Security Administration (SSA).

ACTION: Notice of a Modified System of Records.

SUMMARY: In accordance with the Privacy Act and our disclosure regulations, we are issuing public notice of our intent to publish two new routine uses applicable to seven of our systems of records. The two routine uses will permit disclosures we intend to make to new entities to support the administration of our representative payee program. The system of records notices (SORN) listed below maintain information used in our representative payee program in addition to a variety of SSA's core mission operations. This notice publishes details of the proposed updates as set forth below under SUPPLEMENTARY INFORMATION.

DATES: The routine uses are effective August 2, 2018. In accordance with 5 U.S.C. 552a(e)(4) and (e)(11), the public is given a 30-day period in which to submit comments. We invite public comment on the new routine uses; therefore, please submit any comments by August 2, 2018.

ADDRESSES: The public, Office of Management and Budget (OMB), and Congress may comment on this publication by writing to the Executive Director, Office of Privacy and Disclosure, Office of the General Counsel, Social Security Administration, Room G-401 West High Rise, 6401 Security Boulevard, Baltimore, Maryland 21235-6401, or through the Federal e-Rulemaking Portal at http://www.regulations.gov, please reference docket number SSA-2018-0039. All comments we receive will be available for public inspection at the above address and we will post them to http://www.regulations.gov.

FOR FURTHER INFORMATION CONTACT: Andrea Huseth, Government Information Specialist, Disclosure and Data Support Division, Office of Privacy and Disclosure, Office of the General Counsel, Social Security Administration, Room G-401 West High Rise, 6401 Security Boulevard, Baltimore, Maryland 21235-6401, telephone: (410) 965-6868, email: andrea.huseth@ssa.gov and Tristin Dorsey, Government Information Specialist, Privacy Implementation Division, Office of Privacy and Disclosure, Office of the General Counsel, Social Security Administration, Room G-401 West High Rise, 6401 Security Boulevard, Baltimore, Maryland 21235-6401, telephone: (410) 965-2950, email: tristin.dorsey@ssa.gov.

SUPPLEMENTARY INFORMATION:

I. Background and Purpose of the Proposed New Routine Uses

Social Security's representative payee program provides financial management for Social Security beneficiaries and Supplemental Security Income (SSI) recipients who are incapable of managing their benefits or payments. The representative payee's primary responsibility is to use the beneficiary's benefits or recipient's payments for current and foreseeable needs. Historically, representative payees have submitted annual accounting forms to account for the Social Security benefits or SSI payments received. In addition to the annual accounting form, we select some representative payees for additional review. This type of oversight provides a more in depth review to ensure that the representative payee is meeting his or her representative payee obligations and managing the benefits or payments in the best interest of the beneficiary or recipient that he or she is serving.

The Strengthening Protections for Social Security Beneficiaries Act of 2018 (H.R. 4547, Pub. L. 115-165, hereafter referred to as Pub. L. 115-165) directs SSA to make annual grants to the protection and advocacy (P&A) system serving each of the States and the American Indian Consortium, for the purpose of conducting representative payee reviews for SSA. In addition, SSA will make annual grants to an eligible national association for the provision of training and technical assistance, administrative support, and data collection services to those P&A systems. Prior to the enactment of Public Law 115-165, SSA conducted representative payee oversight and monitoring activities with the support of contractors. We are proposing two new routine uses, which will permit SSA to disclose information from the systems of records listed below to additional entities, including the grantees discussed above, for the purpose of conducting representative payee reviews and providing training, administrative oversight, technical assistance, and other support for the representative payee review program.

II. Proposed New Routine Uses

The Privacy Act requires that agencies publish a notice in the Federal Register of “each routine use of the records contained in the system, including the categories of users and the purpose of such use.” 5 U.S.C. 552a(e)(4)(D). We have developed the following new routine uses that will allow us to disclose information to additional entities in support of our representative payee program:

• To agencies or entities who have a written agreement with SSA, to perform representative payee reviews for SSA and to provide training, administrative oversight, technical assistance, and other support for those reviews; and

• To state protection and advocacy systems, that have a written agreement with SSA to conduct reviews of representative payees, for the purpose of conducting additional reviews that the protection and advocacy systems have reason to believe are warranted.

We will include the new routine uses in the following systems of records:

System No. and name | New routine use | Federal Register citation No./publication date
60-0058—Master Files of Social Security Number Holders and SSN Applications | No. 47 & 48 | 75 FR 82121, 12/29/10. 78 FR 40542, 07/05/13. 79 FR 78780, 02/13/14.
60-0089—Claims Folders System | No. 37 & 38 | 68 FR 15784, 04/01/03. 72 FR 69723, 12/10/07.
60-0090—Master Beneficiary Record | No. 40 & 41 | 71 FR 1829, 01/11/06. 72 FR 69723, 12/10/07. 78 FR 40542, 07/05/13.
60-0094—Recovery of Overpayments, Accounting and Reporting | No. 10 & 11 | 70 FR 49354, 08/23/05. 72 FR 69723, 12/10/07.
60-0103—Supplemental Security Income Record and Special Veterans Benefits | No. 38 & 39 | 71 FR 1830, 01/11/06. 72 FR 69723, 12/10/07.
60-0222—Master Representative Payee File | No. 21 & 22 | 78 FR 23811, 04/22/13.
60-0318—Representative Payee/Misuse Restitution Control System (RP/MRCS) | No. 9 & 10 | 70 FR 29547, 05/23/05. 72 FR 69723, 12/10/07.

We are not republishing in their entirety the SORNs to which we are adding the proposed new routine uses. Instead, we are republishing only the identification number, name of the SORN, the numbers of the new routine uses, and the issue of the Federal Register in which the SORN was last published, including the publication date and number.

In accordance with 5 U.S.C. 552a(r), we have provided a report to OMB and Congress on these modified systems of records.

Dated: May 23, 2018.
Mary Ann Zimmerman,
Acting Executive Director, Office of Privacy and Disclosure, Office of the General Counsel.

[FR Doc. 2018-14246 Filed 7-2-18; 8:45 am]

BILLING CODE P